DEPARTMENT OF COMMERCE

International Trade Administration

[C-549-836, C-570-070, C-542-803]

Rubber Bands From Thailand, the People's Republic of China, and Sri Lanka: Initiation of Countervailing Duty Investigations

AGENCY: Enforcement and Compliance, International Trade Administration, Department of Commerce.

DATES: Applicable February 20, 2018.

FOR FURTHER INFORMATION CONTACT: Frances Veith at (202) 482-4295 or Shana Lee at (202) 482-6386 (Thailand), Kristen Johnson at (202) 482-4793 (China), and Patricia Tran at (202) 482-1503 (Sri Lanka), AD/CVD Operations, Office III, Enforcement and Compliance, International Trade Administration, U.S. Department of Commerce, 1401 Constitution Avenue NW, Washington, DC 20230.

SUPPLEMENTARY INFORMATION:

The Petitions

On January 30, 2018, the U.S. Department of Commerce (Commerce) received countervailing duty (CVD) petitions concerning imports of rubber bands from Thailand, the People's Republic of China (China), and Sri Lanka, filed in proper form on behalf of Alliance Rubber Co. (the petitioner).¹ The CVD Petitions were accompanied by antidumping duty (AD) petitions concerning imports of rubber bands from Thailand, China, and Sri Lanka. The petitioner is a domestic producer of rubber bands.²

¹ See Letter from the petitioner “Petition for the Imposition of Antidumping and Countervailing Duties: Rubber Bands from Thailand, China and Sri Lanka,” dated January 30, 2018 (Petitions).

² Id. at Volume I of the Petitions at 1.

On February 2, 2018, Commerce requested supplemental information pertaining to certain areas of the Petitions.³ The petitioner filed responses to these requests on February 8, 2018, which included revised scope language.⁴ On February 12, 2018, Commerce held a conference call with the petitioner to discuss the scope of the investigation, industry support, and injury.⁵ The petitioner filed a response to address issues discussed on the conference call on February 13, 2018.⁶ On February 16, 2018, based on a telephone conversation between Commerce and counsel to the petitioner, the petitioner made certain clarifications to the scope.⁷

³ See Letter from Commerce to the petitioner, “Petition for the Imposition of Countervailing Duties on Imports of Rubber Bands from Sri Lanka: Supplemental Questions,” (Sri Lanka CVD Petition Supplemental Questionnaire); “Petition for the Imposition of Antidumping and Countervailing Duties on Imports of Rubber Bands from the People's Republic of China, Sri Lanka, and Thailand: Supplemental Questions,” (General Issues Petition Supplemental Questionnaire); “Petition for the Imposition of Countervailing Duties on Imports of Rubber Bands from the People's Republic of China (China): Supplemental Questions,” (China CVD Petition Supplemental Questionnaire); “Petition for the Imposition of Countervailing Duties on Imports of Rubber Bands from Thailand: Supplemental Questions,” (Thailand CVD Petition Supplemental Questionnaire) dated February 2, 2018.

⁴ See Letter from petitioner to Commerce, “Petition for the Imposition of Antidumping and Countervailing Duties on Rubber Bands from Thailand, China and Sri Lanka—Responses to Supplemental Questionnaires,” dated February 8, 2018 (General Issues Supplemental Response, Thailand CVD Petition Supplemental Response, China CVD Petition Supplemental Response, and Sri Lanka CVD Petition Supplemental Response).

⁵ See Memorandum to the File, “Petition for the Imposition of Antidumping and Countervailing Duties on Rubber Bands from the People's Republic of China, Sri Lanka, and Thailand,” dated February 12, 2018 (Phone Memorandum).

⁶ See Letter from petitioner to Commerce, “Petition for the Imposition of Antidumping and Countervailing Duties on Rubber Bands from Thailand, China and Sri Lanka—Supplemental Responses to Supplemental Questionnaires,” dated February 13, 2018 (Second General Issues Supplemental Response).

⁷ See Memorandum to the File, “Phone Call with Counsel to the Petitioner Regarding Scope Clarification,” dated February 16, 2018 (Second Phone Memorandum).

In accordance with section 702(b)(1) of the Tariff Act of 1930, as amended (the Act), the petitioner alleges that the Royal Thai Government (RTG), the Government of China (GOC), and the Government of Sri Lanka (GOSL) are providing countervailable subsidies, within the meaning of sections 701 and 771(5) of the Act, to producers of rubber bands in Thailand, China, and Sri Lanka, respectively, and imports of such products are materially injuring, or threatening material injury to, the domestic rubber bands industry in the United States. Consistent with section 702(b)(1) of the Act and 19 CFR 351.202(b), for those alleged programs on which we are initiating a CVD investigation, the Petitions are accompanied by information reasonably available to the petitioner supporting its allegations.

Commerce finds that the petitioner filed the Petitions on behalf of the domestic industry because the petitioner is an interested party as defined in section 771(9)(C) of the Act. Commerce also finds that the petitioner demonstrated sufficient industry support necessary for the initiation of the requested CVD investigation.⁸

⁸ See “Determination of Industry Support for the Petitions” section, below.

Periods of Investigation

Because the Petitions were filed on January 30, 2018, the periods of investigation are January 1, 2017, through December 31, 2017.

Scope of the Investigations

The products covered by these investigations are rubber bands from Thailand, China, and Sri Lanka. For a full description of the scope of these investigations, see the “Scope of the Investigation,” in the Appendix to this notice.

Comments on Scope of the Investigations

During our review of the Petitions, Commerce issued questions to, and received responses from, the petitioner pertaining to the proposed scope to ensure that the scope language in the Petitions is an accurate reflection of the product for which the domestic industry is seeking relief.⁹ Commerce also held a conference call with the petitioner regarding the scope language.¹⁰ As a result of these exchanges, the scope of the Petitions was modified to clarify the description of merchandise covered by the Petitions.¹¹ The description of the merchandise covered by this initiation, as described in the Appendix to this notice, reflects these clarifications.

⁹ See General Issues Supplemental Response.

¹⁰ See Phone Memorandum.

¹¹ See General Issues Supplemental Response at 6.

As discussed in the Preamble to Commerce's regulations, we are setting aside a period for interested parties to raise issues regarding product coverage (scope).¹² Commerce will consider all comments received from interested parties and, if necessary, will consult with interested parties prior to the issuance of the preliminary determination. If scope comments include factual information, all such factual information should be limited to public information.¹³ To facilitate preparation of its questionnaires, Commerce requests all interested parties submit such comments by 5:00 p.m. Eastern Time (ET) on March 12, 2018 (20 calendar days from the signature date of this notice). Any rebuttal comments, which may include factual information, must be filed by 5:00 p.m. ET on March 22, 2018 (10 calendar days from the initial comments deadline).¹⁴

¹² See Antidumping Duties; Countervailing Duties, Final Rule, 62 FR 27296, 27323 (May 19, 1997) (Preamble).

¹³ See 19 CFR 351.102(b)(21) (defining “factual information”).

¹⁴ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of each of the concurrent AD and CVD investigations.

Filing Requirements

All submissions to Commerce must be filed electronically using Enforcement and Compliance's Antidumping Duty and Countervailing Duty Centralized Electronic Service System (ACCESS).¹⁵ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹⁵ See Antidumping and Countervailing Duty Proceedings: Electronic Filing Procedures; Administrative Protective Order Procedures, 76 FR 39263 (July 6, 2011). See also Enforcement and Compliance: Change of Electronic Filing System Name, 79 FR 69046 (November 20, 2014) for details of Commerce's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the RTG, GOC, and GOSL of the receipt of the CVD Petitions, and provided them the opportunity for consultations with respect to the Petitions.¹⁶ Commerce held consultations with the GOC on February 7, 2018,¹⁷ the GOSL on February 14, 2018,¹⁸ and the RTG on February 14, 2018.¹⁹

¹⁶ See Letter from Erin Begnal, Director, AD/CVD Operations, Office III, to the Royal Thai Embassy, “Countervailing Duty Petition on Rubber Bands from Thailand: Invitation for Consultations to Discuss the Countervailing Duty Petition,” dated January 31, 2018; Letter from Erin Begnal, Director, AD/CVD Operations, Office III, to the Embassy of the People's Republic of China, “Countervailing Duty Petition on Rubber Bands from the People's Republic of China: Invitation for Consultations to Discuss the Countervailing Duty Petition,” dated January 30, 2018; and Letter from Erin Begnal, Director, AD/CVD Operations, Office III, to the Embassy of Sri Lanka, “Countervailing Duty Petition on Rubber Bands from Sri Lanka: Invitation for Consultations to Discuss the Countervailing Duty Petition,” dated January 30, 2018.

¹⁷ See Memorandum, “Countervailing Duty Petitions on Cast Iron Soil Pipe and Rubber Bands from the People's Republic of China: Consultations with Officials of the Government of China,” dated February 8, 2018.

¹⁸ See Memorandum, “Countervailing Duty Petition on Rubber Bands from Sri Lanka: Consultations with Officials of the Government of Sri Lanka,” dated February 14, 2018.

¹⁹ See Memorandum, “Consultations with Government Officials from the Royal Thai Embassy,” dated February 14, 2018.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,²⁰ they do so for different purposes and pursuant to a separate and distinct authority. In addition, Commerce's determination is subject to limitations of time and information. Although this may result in different definitions of the like product, such differences do not render the decision of either agency contrary to law.²¹

²⁰ See section 771(10) of the Act.

²¹ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petition).

With regard to the domestic like product, the petitioner does not offer a definition of the domestic like product distinct from the scope of the investigations. Based on our analysis of the information submitted on the record, we have determined that rubber bands, as defined in the scope, constitute a single domestic like product and we have analyzed industry support in terms of that domestic like product.²²

²² For a discussion of the domestic like product analysis, see Countervailing Duty Investigation Initiation Checklist: Rubber Bands from China (China CVD Initiation Checklist), at Attachment II, Analysis of Industry Support for the Antidumping and Countervailing Duty Petition Covering Rubber Bands from the People's Republic of China, Sri Lanka, and Thailand (Attachment II); Countervailing Duty Investigation Initiation Checklist: Rubber Bands from Sri Lanka (Sri Lanka CVD Initiation Checklist), at Attachment II; and Countervailing Duty Investigation Initiation Checklist: Rubber Bands from Thailand (Thailand CVD Initiation Checklist), at Attachment II. These checklists are dated concurrently with, and hereby adopted by, this notice and on file electronically via ACCESS. Access to documents filed via ACCESS is also available in the Central Records Unit, Room B8024 of the main Department of Commerce building.

In determining whether the petitioner has standing under section 702(c)(4)(A) of the Act, we considered the industry support data contained in the Petitions with reference to the domestic like product as defined in the “Scope of the Investigations,” in the Appendix to this notice. To establish industry support, the petitioner provided its own net sales values of the domestic like product in 2017, and compared this to the estimated total sales value of the domestic like product for the entire domestic industry.²³ Because total industry production data for the domestic like product for 2017 are not reasonably available to the petitioner, and the petitioner has established that sales values and shipments are a reasonably proxy for production data,²⁴ we have relied on the data the petitioner provided for purposes of measuring industry support.²⁵

²³ See General Issues Supplemental Response, at 8 and GEN-10S; see also Second General Issues Supplemental Response, at 2-3.

²⁴ See Second General Issues Supplemental Response, at 2-3.

²⁵ Id. For further discussion, see China CVD Initiation Checklist, at Attachment II; Sri Lanka CVD Initiation Checklist, at Attachment II; and Thailand CVD Initiation Checklist, at Attachment II.

Our review of the data provided in the Petitions, the General Issues Supplemental Response, the Second General Issues Supplemental Response, and other information readily available to Commerce indicates that the petitioner has established industry support for the Petitions.²⁶ First, the Petitions established support from domestic producers (or workers) accounting for more than 50 percent of the total production of the domestic like product and, as such, Commerce is not required to take further action in order to evaluate industry support (e.g., polling).²⁷ Second, the domestic producers (or workers) have met the statutory criteria for industry support under section 702(c)(4)(A)(i) of the Act because the domestic producers (or workers) who support the Petitions account for at least 25 percent of the total production of the domestic like product.²⁸ Finally, the domestic producers (or workers) have met the statutory criteria for industry support under section 702(c)(4)(A)(ii) of the Act because the domestic producers (or workers) who support the Petitions account for more than 50 percent of the production of the domestic like product produced by that portion of the industry expressing support for, or opposition to, the Petitions.²⁹ Accordingly, Commerce determines that the Petitions were filed on behalf of the domestic industry within the meaning of section 702(b)(1) of the Act.

²⁶ See China CVD Initiation Checklist, at Attachment II; Sri Lanka CVD Initiation Checklist, at Attachment II; and Thailand CVD Initiation Checklist, at Attachment II.

²⁷ See section 702(c)(4)(D) of the Act; see also China CVD Initiation Checklist, at Attachment II; Sri Lanka CVD Initiation Checklist, at Attachment II; and Thailand CVD Initiation Checklist, at Attachment II.

²⁸ See China CVD Initiation Checklist, at Attachment II; Sri Lanka CVD Initiation Checklist, at Attachment II; and Thailand CVD Initiation Checklist, at Attachment II.

²⁹ Id.

Commerce finds that the petitioner filed the Petitions on behalf of the domestic industry because it is an interested party as defined in section 771(9)(C) of the Act, and it has demonstrated sufficient industry support with respect to the CVD investigations that it is requesting that Commerce initiate.³⁰

³⁰ Id.

Injury Test

Because China, Sri Lanka, and Thailand are “Subsidies Agreement Countries” within the meaning of section 701(b) of the Act, section 701(a)(2) of the Act applies to these investigations. Accordingly, the ITC must determine whether imports of the subject merchandise from China, Sri Lanka, and Thailand materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility threshold provided for under section 771(24)(A) of the Act.³¹ In CVD petitions, section 771(24)(B) of the Act provides that imports of subject merchandise from developing and least developed countries must exceed the negligibility threshold of four percent. The petitioner demonstrates that imports from Thailand and Sri Lanka, which have been designated as developing and least developed countries under sections 771(36)(A) and 771(36)(B) of the Act, respectively, exceed the negligibility threshold of four percent.³²

³¹ See General Issues Supplemental Response, at 9 and Exhibit B.

³² Id.

The petitioner contends that the industry's injured condition is illustrated by a significant and increasing volume of subject imports; reduced market share; underselling and price depression or suppression; lost sales and revenues; and a negative impact on the domestic industry's financial performance.³³ We have assessed the allegations and supporting evidence regarding material injury, threat of material injury, and causation, and we have determined that these allegations are properly supported by adequate evidence, and meet the statutory requirements for initiation.³⁴

³³ See Volume I of the Petition, at 16-19, 25-47 and Exhibits GEN-3 through GEN-8, GEN-10 and GEN-12; see also General Issues Supplemental Response, at 8-16 and Exhibits A, B, and GEN-10S; and Second General Issues Supplemental Response, at 3 and Exhibit A.

³⁴ See China CVD Initiation Checklist, at Attachment III, Analysis of Allegations and Evidence of Material Injury and Causation for the Antidumping and Countervailing Duty Petition Covering Rubber Bands from the People's Republic of China, Sri Lanka, and Thailand (Attachment III); Sri Lanka CVD Initiation Checklist, at Attachment III; and Thailand CVD Initiation Checklist, at Attachment III.

Initiation of CVD Investigations

Based on the examination of the Petitions, we find that they meet the requirements of section 702 of the Act. Therefore, we are initiating CVD investigations to determine whether imports of rubber bands from Thailand, China, and Sri Lanka benefit from countervailable subsidies conferred by the RTG, GOC, and GOSL, respectively. In accordance with section 703(b)(1) of the Act and 19 CFR 351.205(b)(1), unless postponed, we will make our preliminary determinations no later than 65 days after the date of this initiation.

Numerous amendments to the AD and CVD laws were made pursuant to the Trade Preferences Extension Act of 2015.³⁵ The amendments to sections 776 and 782 of the Act are applicable to all determinations made on or after August 6, 2015, and, therefore, apply to these CVD investigations.³⁶

³⁵ See Trade Preferences Extension Act of 2015, Public Law 114-27, 129 Stat. 362 (2015). See also Dates of Application of Amendments to the Antidumping and Countervailing Duty Laws Made by the Trade Preferences Extension Act of 2015, 80 FR 46793 (August 6, 2015) (Applicability Notice). The 2015 amendments may be found at https://www.congress.gov/bill/114th-congress/house-bill/1295/text/pl.

³⁶ See Applicability Notice, 80 FR at 46794-95.

Thailand

Based on our review of the Petition, we find that there is sufficient information to initiate a CVD investigation on all of the 10 alleged programs. For a full discussion of the basis for our decision to initiate on each program, see the Thai CVD Initiation Checklist. A public version of the initiation checklist for the Thai CVD investigation is available on ACCESS.

China

Based on our review of the Petition, we find that there is sufficient information to initiate a CVD investigation on some or all aspects of the 16 alleged subsidy programs. For three of these 16 programs, we are partially initiating. Furthermore, we have determined that two of the alleged programs should be initiated as one program providing export loans from state-owned banks, reducing the 16 alleged programs into an initiation of 15 programs. For a full discussion of the basis for our decision to initiate on each program, see China CVD Initiation Checklist. A public version of the initiation checklist for this investigation is available on ACCESS.

Sri Lanka

Based on our review of the Petition, we find that there is sufficient information to initiate a CVD investigation on all of the 20 alleged programs. For a full discussion of the basis for our decision to initiate on each program, see the Sri Lanka CVD Initiation Checklist. A public version of the initiation checklist for this investigation is available on ACCESS.

Respondent Selection

The petitioner named 22 companies in Thailand,³⁷ 12 companies in China,³⁸ and four companies in Sri Lanka,³⁹ as producers/exporters of rubber bands. Commerce intends to follow its standard practice in CVD investigations and calculate company-specific subsidy rates in these investigations. In the event Commerce determines that the number of companies is large and it cannot individually examine each company based upon Commerce's resources, where appropriate, Commerce intends to select mandatory respondents based on U.S. Customs and Border Protection (CBP) data for U.S. imports of rubber bands from Thailand, China, and Sri Lanka during the POI under the appropriate Harmonized Tariff Schedule of the United States numbers listed in the “Scope of the Investigation,” in the Appendix.

³⁷ See Volume I of the Petition, at Exhibit GEN-2.

³⁸ Id.

³⁹ Id.

On February 14, 2018, Commerce released CBP data under Administrative Protective Order (APO) to all parties with access to information protected by APO and indicated that interested parties wishing to comment regarding the CBP data and respondent selection must do so within three business days of the publication date of the notice of initiation of these CVD investigations.⁴⁰ Commerce will not accept rebuttal comments regarding the CBP data or respondent selection.

⁴⁰ See Memorandum to the File, “Countervailing Duty Petition on Rubber Bands from the People's Republic of China: U.S. Customs Data for Respondent Selection,” dated February 14, 2018; and “Countervailing Duty Petition on Rubber Bands from Sri Lanka: U.S. Customs Data for Respondent Selection,” dated February 14, 2018; and “Rubber Bands from the Kingdom of Thailand Countervailing Duty Petition: Release of Customs Data from U.S. Customs and Border Protection,” dated February 14, 2018.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the date noted above. We intend to finalize our decisions regarding respondent selection within 20 days of publication of this notice.

Distribution of Copies of the Petition

In accordance with section 702(b)(4)(A)(i) of the Act and 19 CFR 351.202(f), copies of the public version of the Petitions have been provided to the RTG, GOC, and GOSL via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of rubber bands from Thailand, China, and Sri Lanka are materially injuring, or threatening material injury to, a U.S. industry.⁴¹ A negative ITC determination for any country will result in the investigation being terminated with respect to that country.⁴² Otherwise, these investigations will proceed according to statutory and regulatory time limits.

⁴¹ See section 703(a)(2) of the Act.

⁴² See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). 19 CFR 351.301(b) requires any party, when submitting factual information, to specify under which subsection of 19 CFR 351.102(b)(21) the information is being submitted ⁴³ and, if the information is submitted to rebut, clarify, or correct factual information already on the record, to provide an explanation identifying the information already on the record that the factual information seeks to rebut, clarify, or correct.⁴⁴ Time limits for the submission of factual information are addressed in 19 CFR 351.301, which provides specific time limits based on the type of factual information being submitted. Interested parties should review the regulations prior to submitting factual information in these investigations.

⁴³ See 19 CFR 351.301(b).

⁴⁴ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴⁵ Parties must use the certification formats provided in 19 CFR 351.303(g).⁴⁶ Commerce intends to reject factual submissions if the submitting party does not comply with the applicable revised certification requirements.

⁴⁵ See section 782(b) of the Act.

⁴⁶ See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act and 19 CFR 351.203(c).

Dated: February 20, 2018.
Christian Marsh,
Deputy Assistant Secretary for Enforcement and Compliance.

Appendix

Scope of the Investigations

The products subject to these investigations are bands made of vulcanized rubber, with a flat length, as actually measured end-to-end by the band lying flat, no less than ½ inch and no greater than 10 inches; with a width, which measures the dimension perpendicular to the length, actually of at least 3/64 inch and no greater than 2 inches; and a wall thickness actually from 0.020 inch to 0.125 inch. Vulcanized rubber has been chemically processed into a more durable material by the addition of sulfur or other equivalent curatives or accelerators. Subject products are included regardless of color or inclusion of printed material on the rubber band's surface, including but not limited to, rubber bands with printing on them, such as a product name, advertising, or slogan, and printed material (e.g., a tag) fastened to the rubber band by an adhesive or another temporary type of connection. The scope includes vulcanized rubber bands which are contained or otherwise exist in various forms and packages, such as, without limitation, vulcanized rubber bands included within a desk accessory set or other type of set or package, and vulcanized rubber band balls. The scope excludes products that consist of an elastomer loop and durable tag all-in-one, and bands that are being used at the time of import to fasten an imported product. Merchandise covered by these investigations is currently classified in the Harmonized Tariff Schedule of the United States (HTSUS) under subheading 4016.99.3510. Merchandise covered by the scope may also enter under HTSUS subheading 4016.99.6050. While the HTSUS subheadings are provided for convenience and customs purposes, the written description of the scope of the investigations is dispositive.

[FR Doc. 2018-03922 Filed 2-26-18; 8:45 am]

BILLING CODE 3510-DS-P